DEFENSE NUCLEAR FACILITIES SAFETY BOARD

Sunshine Act Notice

AGENCY: Defense Nuclear Facilities Safety Board.

ACTION: Notice; correction.

SUMMARY: The Defense Nuclear Facilities Safety Board (Board) published a document in the Federal Register on May 20, 2015, (80 FR 28988), concerning notice of a closed meeting where the Board Members will discuss issues dealing with potential Recommendations to the Secretary of Energy. That notice stated that the Board would convene the closed meeting at the Defense Nuclear Facilities Safety Board, 625 Indiana Avenue NW., Room 352, Washington, DC 20004. The Board wishes to correct that notice to indicate that the closed meeting will be in Room 425.

FOR FURTHER INFORMATION CONTACT: Mark Welch, General Manager, Defense Nuclear Facilities Safety Board, 625 Indiana Avenue NW., Suite 700, Washington, DC 20004-2901, (800) 788-4016. This is a toll-free number.

Correction

In the Federal Register of May 20, 2015, in FR Doc. 2015-12391, on page 28988, under the ADDRESSES caption, first column, correct the statement to read:

Defense Nuclear Facilities Safety Board, 625 Indiana Avenue NW., Room 425, Washington, DC 20004.

Date: May 20, 2015.
Jessie H. Roberson,
Vice Chairman.

[FR Doc. 2015-12723 Filed 5-21-15; 4:15 pm]

BILLING CODE 3670-01-P